DEPARTMENT OF ENERGY

Federal Energy Regulatory Commission

[Docket No. RP00-108-000]

Questar Pipeline Company; Notice of Postponement of Technical Conference

May 2, 2000.

Take notice that the technical conference scheduled for Wednesday, May 3, 2000, in the above-referenced proceeding has been rescheduled at the request of the parties.

The conference will be rescheduled for Thursday, May 18, 2000, at 10 a.m., in a room to be designated at the offices of the Federal Energy Regulatory Commission, 888 First Street, NE, Washington, DC 20426.

All interested parties and Staff are permitted to attend.

David P. Boergers,
Secretary.

[FR Doc. 00-11357 Filed 5-5-00; 8:45 am]

BILLING CODE 6717-01-M